DEPARTMENT OF HEALTH AND HUMAN SERVICES

Announcement of First Meeting of the Physical Activity Guidelines Advisory Committee

AGENCY: Department of Health and Human Services, Office of the Secretary, Office of Public Health and Science.

ACTION: Notice of meeting.

Authority: 42 U.S.C. 217a, section 222 of the Public Health Service Act, as amended. The Committee is governed by the provision of Public Law 92-463, as amended (5 U.S.C. Appendix 2), which sets forth standards for the formation and use of advisory committees.

SUMMARY: The U.S. Department of Health and Human Services (HHS) announces the first in a series of three federal advisory committee meetings on the Physical Activity Guidelines for Americans, to be held in Washington, DC. These meeting will be open to the public. The Physical Activity Guidelines Advisory Committee will review existing scientific literature to identify where there is sufficient evidence to develop a comprehensive set of specific physical activity recommendations. The Committee will prepare a report to the Secretary of HHS that documents the scientific background and rationale for the issuance of Physical Activity Guidelines for Americans. The report will also identify areas where further scientific research is needed. HHS will use the Final Report of the Committee to develop Physical Activity Guidelines. The intent is to issue physical activity recommendations for all Americans that will be tailored as necessary for specific subgroups of the population.

DATES: The Committee will meet on June 28-29, 2007 for a day and a half meeting.

ADDRESSES: The meeting will be held at the U.S. Department of Health and Human Services, Hubert H. Humphrey Building, located at 200 Independence Avenue, SW., Room 800, Washington, DC 20201.

FOR FURTHER INFORMATION CONTACT: CAPT Richard Troiano, Ph.D., Executive Secretary, Physical Activity Guidelines Advisory Committee, Department of Health and Human Services, Office of Public Health and Science, Office of Disease Prevention and Health Promotion, Room LL-100, 1101 Wootton Parkway, Rockville, MD 20852, 240/453-8280 (telephone), 240/453-8281 (fax). Additional information is available on the Internet at http://www.health.gov/PAguidelines.

SUPPLEMENTARY INFORMATION: The Physical Activity Guidelines Advisory Committee: The thirteen-member Committee is chaired by William Haskell, Ph.D., Professor of Medicine, Stanford University School of Medicine. The Vice-Chair is Miriam Nelson, Ph.D., Director, John Hancock Center for Physical Activity and Nutrition, Friedman School of Nutrition Science and Policy, Tufts University. Other members of the Committee include Rod K. Dishman, Ph.D., Professor of Exercise Science and Director, Exercise Psychology Laboratory, Department of Kinesiology, University of Georgia; Edward Howley, Ph.D., Professor Emeritus, Department of Exercise, Sport, and Leisure Studies, University of Tennessee; Wendy Kohrt, Ph.D., Professor of Medicine, Division of Geriatric Medicine, University of Colorado at Denver and Health Sciences Center; William Kraus, M.D., Professor, Division of Cardiovascular Medicine, Duke University School of Medicine; I-Min Lee, M.D., Sc.D., Associate Professor of Medicine, Harvard Medical School and Associate Professor of Epidemiology, Harvard School of Public Health; Anne McTiernan, M.D., Ph.D., Director, Prevention Center, Fred Hutchinson Cancer Research Center; Russell Pate, Ph.D., Associate Vice President for Health Sciences, Office of Research and Health Sciences and Professor, Department of Exercise Science, University of South Carolina; Kenneth Powell, M.D., M.P.H., Public Health and Epidemiologic Consultant; Judith Regensteiner, Ph.D., Professor Department of Medicine and Director, Center for Women's Health Research, University of Colorado at Denver and Health Sciences Center: James Rimmer, Ph.D., Professor and Director, National Center on Physical Activity and Disability, Department of Disability and Human Development, University of Illinois at Chicago; and Antronette Yancey, M.D., M.P.H., Professor, Department of Health Services, University of California at Los Angeles School of Public Health.

Purpose of Meeting: Over the past 40 years, many organizations, including the Federal Government, have issued physical activity recommendations. While the various recommendations illustrate scientific consensus on the health benefits of physical activity, they differ from each other in the particular recommendations and highlighted benefits. The Physical Activity Guidelines Advisory Committee will review existing scientific literature to identify where there is sufficient evidence to develop a comprehensive set of specific physical activity recommendations. The Committee will prepare a report to the Secretary of HHS that documents the scientific background and rationale for the issuance of Physical Activity Guidelines for Americans. The report will also identify areas where further scientific research is needed. HHS will use the Final Report of the Committee to develop Physical Activity Guidelines. The intent is to develop physical activity recommendations for all Americans that will be tailored as necessary for specific subgroups of the population.

Public Participation at Meeting: Members of the public are invited to observe the Advisory Committee meeting. Please note it is anticipated that there will be no oral public comments during the initial Physical Activity Guidelines Advisory Committee meeting, however, written comments are welcome throughout the Guidelines development process and may be e-mailed to PA.guidelines@hhs.gov. A summary of the Advisory Committee meetings will be made available shortly after each meeting.

To observe the Committee meeting, individuals must pre-register at the Physical Activity Guidelines Web site at http://www.health.gov/PAguidelines. Registrations must be completed by June 22, 2007. Space for the meeting is limited. Registrations will be accepted until maximum room capacity is reached. A waiting list will be maintained should registrations exceed room capacity. Individuals on the waiting list will be contacted as additional space for the meeting becomes available.

Registrants for the Physical Activity Advisory Committee meeting must present valid government-issued photo identification (i.e., driver's license) and should arrive 45 minutes prior to the start of the meeting to pass through security.

Registration questions may be directed to Experient at PAguidelines@experient-inc.com (e-mail), (703) 525-8333 x3349 (phone) or (703) 525-8557 (fax).

Dated: May 22, 2007.
Penelope Slade Royall,
RADM, USPHS, Deputy Assistant Secretary for Health, Office of Disease Prevention and Health Promotion.

[FR Doc. E7-10440 Filed 5-31-07; 8:45 am]

BILLING CODE 4150-32-P